NUCLEAR REGULATORY COMMISSION

[NRC-2023-0096]

Draft NUREG: Revision to Subsequent License Renewal Guidance Documents, and Supplement to Associated Technical Bases Document; Correction

AGENCY: Nuclear Regulatory Commission.

ACTION: Draft report; request for comment; correction.

SUMMARY: The U.S. Nuclear Regulatory Commission (NRC) is correcting a notice that was published in the Federal Register (FR) on July 11, 2023, requesting public comment on three draft NUREGs that provide revised guidance for subsequent license renewal and the associated technical bases for the revised guidance documents. This action is necessary to correct tables within the Draft NUREG-2192, “Standard Review Plan for Review of Subsequent License Renewal Applications for Nuclear Power Plants, Draft Report for Comment,” Revision 1.

DATES: The correction takes effect on August 8, 2023.

ADDRESSES: Please refer to Docket ID NRC-2023-0096 when contacting the NRC about the availability of information regarding this document. You may obtain publicly available information related to this document using any of the following methods:

• Federal Rulemaking Website: Go to https://www.regulations.gov and search for Docket ID NRC-2023-0096. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft NUREG-2192, “Standard Review Plan for Review of Subsequent License Renewal Applications for Nuclear Power Plants, Draft Report for Comment,” Revision 1, Corrected Tables 3.1-1 and Table 3.2-1, are available in ADAMS under Accession No. ML23213A036.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Emmanuel Sayoc, telephone: 301-415-4084; email: Emmanuel.Sayoc@nrc.gov and Carol Moyer, telephone: 301-415-2153; email: Carol.Moyer@nrc.gov. Both are staff of the Office of Nuclear Reactor Regulation at the U.S. Nuclear Regulatory Commission, Washington, DC 20555-0001.

SUPPLEMENTARY INFORMATION: In the FR on July 11, 2023, in FR Doc. 2023-14577, in the referenced draft NUREG-2192, “Standard Review Plan for Review of Subsequent License Renewal Applications for Nuclear Power Plants, Draft Report for Comment,” Revision 1,” ADAMS Accession No. ML23180A191, Table 3.1-1 and Table 3.2-1 were published with editorial errors. The corrected tables are available in ADAMS under Accession No. ML23213A036.

Dated: August 3, 2023.
For the Nuclear Regulatory Commission.
Michelle W. Hayes,
Chief, Licensing and Regulatory Infrastructure Branch, Division of New and Renewed Licenses, Office of Nuclear Reactor Regulation.

[FR Doc. 2023-16953 Filed 8-7-23; 8:45 am]

BILLING CODE 7590-01-P